Title 3—

The President

Executive Order 13350 of July 29, 2004

Termination of Emergency Declared in Executive Order 12722 With Respect to Iraq and Modification of Executive Order 13290, Executive Order 13303, and Executive Order 13315

By the authority vested in me as President by the Constitution and laws of the United States of America, including the International Emergency Economic Powers Act (50 U.S.C. 1701 et seq.)(IEEPA), the National Emergencies Act (50 U.S.C. 1601 et seq.)(NEA), section 5 of the United Nations Participation Act, as amended (22 U.S.C. 287c)(UNPA), and section 301 of title 3, United States Code,

I, GEORGE W. BUSH, President of the United States of America, have determined that the situation that gave rise to the declaration of a national emergency with respect to Iraq in Executive Order 12722 of August 2, 1990, has been significantly altered by the removal of the regime of Saddam Hussein and other developments. I hereby terminate the national emergency declared in Executive Order 12722, revoke that Executive Order and Executive Order 12724 of August 9, 1990, Executive Order 12734 of November 14, 1990, Executive Order 12743 of January 18, 1991, Executive Order 12751 of February 14, 1991, and Executive Order 12817 of October 21, 1992, that are based on that national emergency. I hereby amend Executive Order 13290 of March 20, 2003, so that the authorities therein remain in effect based on the national emergency I declared in Executive Order 13303 of May 22, 2003, and expanded in Executive Order 13315 of August 28, 2003. At the same time, and in order to take additional steps to deal with the national emergency that I declared in Executive Order 13303, and expanded in Executive Order 13315, with respect to the unusual and extraordinary threat to the national security and foreign policy of the United States posed by obstacles to the orderly reconstruction of Iraq, the restoration and maintenance of peace and security in that country, and the development of political, administrative and economic institutions in Iraq, I hereby order:

Section 1. Pursuant to section 202(a) of the NEA (50 U.S.C. 1622(a)), termination of the national emergency declared in Executive Order 12722 shall not affect any action taken or proceeding pending but not finally concluded or determined as of the effective date of this order, any action or proceeding based on any act committed prior to such date, or any rights or duties that matured or penalties that were incurred prior to such date. Pursuant to section 207(a) of IEEPA (50 U.S.C. 1706(a)), and subject to such regulations, orders, directives, or licenses as may be issued pursuant to this order, I hereby determine that the continuation of prohibitions with regard to transactions involving property blocked pursuant to Executive Orders 12722 or 12724 that continues to be blocked as of the effective date of this order is necessary on account of claims involving Iraq.

Sec. 2. The Annex to Executive Order 13315 is replaced and superseded in its entirety by the Annex to this order.

Sec. 3. I hereby amend Executive Order 13290 by removing “the national emergency declared in Executive Order 12722 of August 2, 1990” and replacing it with “the national emergency declared in Executive Order 13303 of March 20, 2003, and expanded in Executive Order 13315 of August 28, 2003”.

Sec. 4. Unless licensed or otherwise authorized pursuant to this order or otherwise consistent with U.S. law, the trade in or transfer of ownership or possession of Iraqi cultural property or other items of archeological, historical, cultural, rare scientific, and religious importance that were illegally removed, or for which a reasonable suspicion exists that they were illegally removed, from the Iraq National Museum, the National Library, and other locations in Iraq since August 6, 1990, is prohibited.

Sec. 5. I hereby determine that the making of donations of the type specified in section 203(b)(2) of IEEPA (50 U.S.C. 1702(b)(2)) by or to persons determined to be subject to the sanctions imposed by Executive Order 13315 or by this order would seriously impair my ability to deal with the national emergency declared in Executive Order 13303, and expanded by Executive Order 13315, or would endanger the Armed Forces of the United States that are engaged in hostilities, and I hereby prohibit such donations as provided in section 1 of Executive Order 13315 as amended by this order.

Sec. 6. For those persons listed in the Annex to this order or determined to be subject to Executive Order 13315 or this order who might have a constitutional presence in the United States, I find that because of the ability to transfer funds or other assets instantaneously, prior notice to such persons of measures to be taken pursuant to this order would render these measures ineffectual. I therefore determine that for these measures to be effective in addressing the national emergency declared in Executive Order 13303, and expanded by Executive Order 13315, there need be no prior notice of a listing or determination made pursuant to Executive Order 13315 or this order.

Sec. 7. The Secretary of the Treasury, in consultation with the Secretary of State, is hereby authorized to take such actions, including the promulgation of rules and regulations, and to employ all powers granted to the President by IEEPA and UNPA as may be necessary to carry out the purposes of this order. The Secretary of the Treasury may redelegate any of these functions to other officers and agencies of the United States Government consistent with applicable law. All agencies of the United States Government are hereby directed to take all appropriate measures within their authority to carry out the provisions of this order.

Sec. 8. The Secretary of the Treasury, in consultation with the Secretary of State, is authorized to determine subsequent to the issuance of the order, that circumstances no longer warrant the inclusion of a person in the Annex to this order and that such person is therefore no longer covered within the scope of the order.

Sec. 9. This order is not intended to, and does not, create any right or benefit, substantive or procedural, enforceable at law or in equity by any party against the United States, its departments, agencies, instrumentalities, or entities, officers or employees, or any other person.

Sec. 10. This order is effective at 12:01 a.m. eastern daylight time on July 30, 2004. This order shall be transmitted to the Congress and published in the Federal Register.

B

THE WHITE HOUSE,

July 29, 2004.

Billing code 3195-01-P

[FR Doc. 04-17636

Filed 7-29-04; 12:57 pm]

Billing code 4810-25-C